DEPARTMENT OF COMMERCE

International Trade Administration

Agency Information Collection Activities; Submission to the Office of Management and Budget (OMB) for Review and Approval; Comment Request; Aluminum Import Licenses

AGENCY: International Trade Administration, Enforcement & Compliance, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before December 5, 2023.

ADDRESSES: Interested persons are invited to submit written comments by mail to Julie Al-Saadawi, Director, Industrial Monitoring and Analysis Unit, International Trade Administration or by email to julie.al-saadawi@trade.gov. Please reference OMB Control Number 0625-0279 in the subject line of your comments. Do not submit Confidential Business Information or otherwise sensitive or protected information.

FOR FURTHER INFORMATION CONTACT: Requests for additional information or specific questions related to collection activities should be directed to Leo Kim, ITA Paperwork Reduction Act Officer, International Trade Administration; by telephone at (202) 989-5979, or by email to (pra@trade.gov).

SUPPLEMENTARY INFORMATION:

I. Abstract

Under the Aluminum Import Monitoring and Analysis (AIM) system, importers, custom brokers, or their agents are required to obtain an import license for each entry of covered aluminum products. To obtain an import license, each applicant must identify, among other fields, the country or countries where the largest and second largest volume of primary aluminum used in the manufacture of the imported aluminum product was smelted and the country where the aluminum product was most recently cast. On December 23, 2020, Commerce published the final rule adopting regulations establishing the AIM system in 19 CFR part 361 (85 FR 83804; December 23, 2020).

The import license information is necessary to assess import trends of aluminum products. In order to effectively monitor aluminum imports, Commerce must collect and provide timely aggregated summaries about the imports. The Aluminum Import License form is the tool used to collect the necessary information. The Census Bureau currently collects import data and disseminates aggregate information about aluminum imports. However, the time required to collect, process, and disseminate this information through Census can take up to 45 days after importation of the product, giving interested parties and the public far less time to respond to injurious sales.

II. Method of Collection

The license application can be submitted electronically via the Commerce website (https://trade.gov/aluminum) or completed electronically and emailed to the Department.

III. Data

OMB Control Number: 0625-0279.

Form Number(s): ITA-4142a (regular license); ITA-4142b (low-value license).

Type of Review: Regular submission.

Affected Public: Business or other for-profit organizations.

Estimated Number of Respondents: 4,000.

Estimated Time per Response: less than 10.5 minutes.

Estimated Total Annual Burden Hours: 35,633 minutes.

Estimated Total Annual Cost to Public: $0.00.

Respondent's Obligation: Voluntary.

Legal Authority: 13 U.S.C. 301(a) and 302.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-22289 Filed 10-5-23; 8:45 am]

BILLING CODE 3510-DS-P